DEPARTMENT OF COMMERCE

National Oceanic and Atmospheric Administration

[I.D. 032204G]

Marine Fisheries Advisory Committee; Charter Renewal

AGENCY: National Marine Fisheries Service (NMFS), National Oceanic and Atmospheric Administration (NOAA), Commerce.

ACTION: Notice of renewal.

SUMMARY: Notice is hereby given of the renewal of the charter of the Marine Fisheries Advisory Committee (MAFAC) for 2 years.

DATES: The term of the existing Charter is from March 8, 2004 to March 8, 2006.

ADDRESSES: A copy of the Charter is available from the Office of Constituent Services, National Marine Fisheries Service, 1315 East West Highway, Silver Spring, MD 20910, or online at www.nmfs.noaa.gov/mafac/htm.

FOR FURTHER INFORMATION CONTACT: Laurel Bryant, Outreach and Education Coordinator; telephone: (301) 713-2379.

SUPPLEMENTARY INFORMATION: In accordance with the provisions of the Federal Advisory Committee Act, 5 U.S.C. App.2, and the General Services Administration (GSA) rule on Federal Advisory Committee Management, 41 CFR part 101-6, and after consultation with GSA, the Secretary of Commerce (Secretary) has determined that the renewal of the MAFAC Charter is in the public interest in connection with the performance of duties imposed on the Department by law.

History

MAFAC was first established in February 1971 to advise the Secretary on all living marine resource matters to ensure that the Nation's living marine resource policies and programs meet the needs of commercial and recreational fishermen and environmental, state, consumer, academic, and other national interests. The Secretary continues to rely on the expertise of MAFAC for the development of national fisheries policy and program initiatives. This advice is essential to meet the needs of the fisheries and of those concerned with the fisheries.

Membership

MAFAC will consist of at least 15, but not more that 21 members to be appointed by the Secretary to assure a balanced representation among commercial and recreational fishermen and environmental, state, consumer, academic, and other national interests.

Function

MAFAC will function solely as an advisory body and in compliance with provisions of the Federal Advisory Committee Act. Copies of MAFAC's revised charter have been filed with the appropriate committees of the Congress and with the Library of Congress.

Dated: March 23, 2004.
Rebecca Lent,
Deputy Assistant Administrator for Regulatory Programs, National Marine Fisheries Service.

[FR Doc. 04-7085 Filed 3-29-04; 8:45 am]

BILLING CODE 3510-22-S